DEPARTMENT OF THE TREASURY

Internal Revenue Service

26 CFR Part 1

[TD 9449]

RIN 1545-BH84

Allocation and Reporting of Mortgage Insurance Premiums; Correction

AGENCY: Internal Revenue Service, Treasury.

ACTION: Correcting amendment.

SUMMARY: This document contains a correction to temporary regulations (TD 9449) that were published in the Federal Register on Thursday, May 7, 2009 (74 FR 21256) that explain how to allocate prepaid qualified mortgage insurance premiums to determine the amount of the prepaid premium that is treated as qualified residence interest each taxable year under section 163(h)(4)(F) of the Internal Revenue Code. The temporary regulations also provide guidance to reporting entities receiving premiums, including prepaid premiums, for mortgage insurance. The temporary regulations reflect changes to the law made by the Tax Relief and Health Care Act of 2006 and the Mortgage Forgiveness Debt Relief Act of 2007.

DATES: This correction is effective on June 8, 2009, and is applicable beginning May 7, 2009.

FOR FURTHER INFORMATION CONTACT: Angela Warren (202) 622-4950 or Stephen Coleman (202) 622-4910 (not toll-free numbers).

SUPPLEMENTARY INFORMATION:

Background

The temporary regulations that are the subject of this document are under section 163-11T(e) of the Internal Revenue Code.

Need for Correction

As published, the temporary regulations (TD 9449) contain an error that may prove to be misleading and are in need of clarification.

List of Subjects in 26 CFR Part 1

Income taxes, Reporting and recordkeeping requirements.

Correction of Publication

Accordingly, 26 CFR part 1 is corrected by making the following correcting amendment:

PART 1—INCOME TAXES

Paragraph 1. The authority citation for part 1 continues to read in part as follows:

Authority: 26 U.S.C. 7805 * * *

§ 1.163-11T [Amended]

Par. 2. Section 1.163-11T, paragraph (e) is amended by removing the language in the first sentence “expires on May 7, 2012.” and adding in its place “expires on May 4, 2012.”

Diane O. Williams,
Federal Register Liaison, Publications and Regulations Branch, Legal Processing Division, Associate Chief Counsel (Procedure and Administration).

[FR Doc. E9-13234 Filed 6-5-09; 8:45 am]

BILLING CODE 4830-01-P